DEPARTMENT OF THE TREASURY

Alcohol and Tobacco Tax and Trade Bureau

27 CFR Parts 40, 41, 44, and 45

[Docket No. TTB-2009-0002; Notice No. 98; Re: Notice No. 95, T.D. TTB-78 and T.D. TTB-80]

RIN 1513-AB72

Implementation of Statutory Amendments Requiring the Qualification of Manufacturers and Importers of Processed Tobacco and Other Amendments Related To Permit Requirements, and the Expanded Definition of Roll-Your-Own Tobacco; Extension of Comment Period

AGENCY: Alcohol and Tobacco Tax and Trade Bureau, Treasury.

ACTION: Notice of proposed rulemaking; reopening of comment period.

SUMMARY: In response to a request filed on behalf of several industry members, the Alcohol and Tobacco Tax and Trade Bureau is reopening the comment period for Notice No. 95, a notice of proposed rulemaking published in the Federal Register on June 22, 2009. The proposed rule seeks comments on a concurrently published temporary rule implementing permit requirements for manufacturers and importers of processed tobacco and an expansion of the definition of roll-your-own tobacco adopted in the Children's Health Insurance Program Reauthorization Act of 2009. The text of the regulations contained in the temporary rule serves as the text of the proposed regulations.

DATES: The comment period for the proposed rule (Notice No. 95) published June 22, 2009, at 74 FR 29433 is reopened. Written comments on Notice No. 95 must now be received on or before October 20, 2009.

ADDRESSES: You may send comments on Notice No. 95 to one of the following addresses:

• http://www.regulations.gov (via the online comment form for Notice No. 95 as posted within Docket No. TTB-2009-0002 at “Regulations.gov,” the Federal e-rulemaking portal);

• Director, Regulations and Rulings Division, Alcohol and Tobacco Tax and Trade Bureau, P.O. Box 14412, Washington, DC 20044-4412; or

• Hand Delivery/Courier in Lieu of Mail: Alcohol and Tobacco Tax and Trade Bureau, 1310 G Street, NW., Suite 200-E, Washington, DC 20005.

See the Public Participation section of Notice No. 95 for specific instructions and requirements for submitting comments, and for information on how to request a public hearing.

You may view copies of this notice, Notice No. 95, any comments received, the related temporary rule (T.D. TTB-78), and a correction to the temporary rule (T.D. TTB-80) at http://www.regulations.gov. A direct link to the related Regulations.gov docket also is available under Notice No. 95 on the TTB Web site at http://www.ttb.gov/regulations_laws/all_rulemaking.shtml. You also may view copies of these documents by appointment at the TTB Information Resource Center, 1310 G Street, NW., Washington, DC 20220. To make an appointment, call 202-453-2270 (new phone number).

FOR FURTHER INFORMATION CONTACT: For questions concerning processed tobacco permit and authorization procedures, contact the National Revenue Center, Alcohol and Tobacco Tax and Trade Bureau at 1-877-882-3277; for other questions concerning this document, Notice No. 95, or the related temporary rule, contact Amy Greenberg, Regulations and Rulings Division, Alcohol and Tobacco Tax and Trade Bureau at 202-453-2099 (new phone number).

SUPPLEMENTARY INFORMATION: In the Federal Register issue of June 22, 2009, the Alcohol and Tobacco Tax and Trade Bureau (TTB) published a temporary rule (T.D. TTB-78; 74 FR 29401) setting forth regulatory amendments to 27 CFR parts 40, 41, 44, and 45 to implement certain changes made to the Internal Revenue Code of 1986 by the Children's Health Insurance Program Reauthorization Act of 2009 (CHIPRA) (Pub. L. 111-3, 123 Stat. 8). The principal changes made by CHIPRA involve permit and related requirements for manufacturers and importers of processed tobacco and an expansion of the definition of roll-your-own tobacco.

In the same issue of the Federal Register, we concurrently published a notice of proposed rulemaking, Notice No. 95 (74 FR 29433), to request comments on the regulatory amendments contained in the temporary rule. The preamble to the temporary regulations explained the proposed regulations. As originally published, comments on Notice No. 95 were due on August 21, 2009. (On July 29, 2009, we published corrections to the temporary rule in T.D. TTB-80 at 74 FR 37551.)

On August 19, 2009, TTB received a letter from a law firm representing the John Middleton Co., Philip Morris USA Inc., and U.S. Smokeless Tobacco Manufacturing Co. LLC, requesting an extension of the comment period for Notice No. 95. In the letter, the requester noted the temporary rule's immediate effective date and the fact that TTB issued the temporary rule and the related notice of proposed rulemaking just before the annual TTB Expo, which was attended by many company officials. The letter stated these events gave the companies “little time to digest the implications of the temporary rule prior to the Expo * * *.” Since returning from the Expo, the companies have found “the process of identifying all activity within the factories that might have implications for processed tobacco” to be “extensive and time consuming.”

The letter also noted that the TTB temporary rule was issued on the same day as the enactment of the Family Smoking Prevention and Tobacco Control Act, which provides for regulation of tobacco products by the Food and Drug Administration. “Thus,” the letter states, “key personnel within the Companies and other industry entities were involved in evaluation of this legislation and identification of its implications for their operations.” The letter additionally noted that the comment period on the proposed rule coincided with the summer vacation season when company officials are most likely to be away from their offices.

Given the factors cited above, TTB agrees that the comment period for Notice No. 95 should be extended by an additional 60 days. Therefore, comments on Notice No. 95 are now due on October 20, 2009.

Drafting Information

Michael Hoover of the Regulations and Rulings Division, Alcohol and Tobacco Tax and Trade Bureau, drafted this document.

Signed: August 20, 2009.
Cheri D. Mitchell,
Acting Administrator.

[FR Doc. E9-20404 Filed 8-24-09; 8:45 am]

BILLING CODE 4810-31-P